DEPARTMENT OF EDUCATION

National Institute on Disability and Rehabilitation Research—Disability and Rehabilitation Research Projects and Centers Program—Disability Rehabilitation Research Projects (DRRPs) and Rehabilitation Research and Training Centers (RRTCs)

AGENCY: Office of Special Education and Rehabilitative Services, Department of Education.

ACTION: Notice of final priorities for DRRP and RRTC.

SUMMARY: The Assistant Secretary for Special Education and Rehabilitative Services announces certain funding priorities for the Disability and Rehabilitation Research Projects and Centers Program administered by the National Institute on Disability and Rehabilitation Research (NIDRR). Specifically, this notice announces one priority for a DRRP and one priority for an RRTC. The Assistant Secretary may use these priorities for competitions in fiscal year (FY) 2008 and later years. We take this action to focus research attention on areas of national need. We intend these priorities to improve rehabilitation services and outcomes for individuals with disabilities.

EFFECTIVE DATE: These priorities are effective August 6, 2008.

FOR FURTHER INFORMATION CONTACT: For further information regarding Priority 1—Centers on Research and Capacity Building to Improve Outcomes for Individuals With Disabilities from Traditionally Underserved Racial and Ethnic Populations, contact: Marlene Spencer, U.S. Department of Education, 400 Maryland Avenue, SW., room 6026, Potomac Center Plaza (PCP), Washington, DC 20202-2700. Telephone: (202) 245-7532 or by e-mail: marlene.spencer@ed.gov.

For further information regarding Priority 2—Individuals With Disabilities Living in Rural Areas, contact: Donna Nangle, U.S. Department of Education, 400 Maryland Avenue, SW., Room 6029, PCP, Washington, DC 20202-2700. Telephone: (202) 245-7462 or by e-mail: donna.nangle@ed.gov.

If you use a telecommunications device for the deaf (TDD), call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION: We published a notice of proposed priorities (NPP) for NIDRR's Disability and Rehabilitation Research Projects and Centers Program in the Federal Register on April 22, 2008 (73 FR 21607). The NPP included background statements that described our rationale for the three priorities proposed in that notice.

There are differences between the NPP and this notice of final priorities (NFP) as discussed in the following section.

In this notice, we are announcing one priority for a DRRP and one priority for an RRTC.

For the DRRP, the final priority is:

• Priority 1—Centers on Research and Capacity Building To Improve Outcomes for Individuals With Disabilities From Traditionally Underserved Racial and Ethnic Populations.

For the RRTC, the final priority is:

• Priority 2—Individuals With Disabilities Living in Rural Areas.

Note: NIDRR intends to publish a separate notice of final priority for the Rehabilitation Engineering Research Center (RERC) on Technologies for Successful Aging with Disability that was proposed in the NPP.

Analysis of Comments and Changes

In response to our invitation in the NPP, 2 parties submitted comments on the proposed priorities for the DRRP and RRTC. An analysis of the comments and of any changes in the priorities since publication of the NPP follows.

Generally, we do not address technical and other minor changes, or suggested changes the law does not authorize us to make under the applicable statutory authority. In addition, we do not address general comments that raised concerns not directly related to the proposed priorities.

DRRP

Priority 1—Centers on Research and Capacity Building To Improve Outcomes for Individuals With Disabilities From Traditionally Underserved Racial and Ethnic Populations

Comment: One commenter asked for a definition of the term “traditionally underserved racial and ethnic populations.”

Discussion: As stated in the priority, the term “traditionally underserved racial and ethnic populations” refers to the racial and ethnic minority populations that have not traditionally received equal access to and benefits of rehabilitation services as discussed in section 21(a) of the Rehabilitation Act of 1973, as amended. However, because section 21(a) does not identify or provide examples of specific populations that meet this definition, we expect each applicant to identify the particular population(s) it proposes to study and to provide support that the selected population(s) are traditionally underserved.

Changes: We have revised the priority to include the requirement that an applicant identify the particular population(s) it proposes to study, and to provide support that the selected population(s) are, in fact, racial or ethnic minority populations that have not traditionally received equal access to and benefits of rehabilitation services.

RRTC

Priority 2—Individuals With Disabilities Living in Rural Areas

Comment: One commenter noted that this priority emphasizes research that promotes outcomes in two of NIDRR's three areas of focus: Employment, and health and function. The commenter noted, however, that the priority does not include an emphasis on outcomes in NIDRR's third area of focus: participation and community living.

Discussion: NIDRR agrees that the priority does not emphasize participation and community living. However, as we describe in our Final Long Range Plan for FY 2005-2009, 71 FR 8165 (Plan), the domains of employment, health and function, and participation and community living are highly interrelated. For example, employment can be a critical part of participation and community living. Many elements of participation and community living, such as housing, transportation, and access to services and programs in the community, may influence employment and health and function outcomes (Long Range Plan, 71 FR 8165, 8173). While this priority emphasizes employment and health and function outcomes, it does not preclude research that involves potential predictors of those outcomes that are typically investigated within the participation and community living domain.

Changes: None.

Note: This notice does not solicit applications. In any year in which we choose to use these priorities, we invite applications through a notice in the Federal Register. When inviting applications we designate the priorities as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

This NFP is in concert with President George W. Bush's New Freedom Initiative (NFI) and NIDRR's Final Long-Range Plan for FY 2005-2009 (Plan). Background information on the NFI can be accessed on the Internet at the following site: http://www.whitehouse.gov/infocus/newfreedom.

The Plan, which was published in the Federal Register on February 15, 2006 (71 FR 8165), can be accessed on the Internet at the following site: http://www.ed.gov/about/offices/list/osers/nidrr/policy.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Disability and Rehabilitation Research Projects (DRRP) Program

The purpose of the DRRP program is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, development, demonstration, training, dissemination, utilization, and technical assistance.

An applicant for assistance under this program must demonstrate in its application how it will address, in whole or in part, the needs of individuals with disabilities from minority backgrounds (34 CFR 350.40(a)). The approaches an applicant may take to meet this requirement are found in 34 CFR 350.40(b). In addition, NIDRR intends to require all DRRP applicants to meet the requirements of the General Disability and Rehabilitation Research Projects (DRRP) Requirements priority that it published in a notice of final priorities in the Federal Register on April 28, 2006 (71 FR 25472).

Additional information on the DRRP program can be found at: http://www.ed.gov/rschstat/research/pubs/res-program.html#DRRP.

Priority 1—Centers on Research and Capacity Building to Improve Outcomes for Individuals With Disabilities from Traditionally Underserved Racial and Ethnic Populations

The Assistant Secretary for Special Education and Rehabilitative Services announces a priority to establish, under the Disability and Rehabilitation Research Project (DRRP) program, Centers on Research and Capacity Building to Improve Outcomes for Individuals With Disabilities from Traditionally Underserved Racial and Ethnic Populations (each a Center).

This priority is intended to improve the quality and utility of research related to individuals with disabilities from traditionally underserved racial and ethnic populations in the United States and to enhance the capacity of minority entities (as defined in section 21(b)(5)(B) of the Rehabilitation Act of 1973, as amended) to conduct this research. Under this priority, each Center must be designed to contribute to the following outcomes:

(a) New knowledge about rehabilitation and independent living services and outcomes for individuals with disabilities from traditionally underserved racial and ethnic populations, and knowledge about how services for these populations can be improved. Each Center must contribute to this outcome by conducting research that examines service experiences and outcomes for individuals with disabilities from traditionally underserved racial and ethnic populations.

(b) Improved capacity to conduct high quality research and develop new knowledge about rehabilitation and independent living services and outcomes for individuals with disabilities from traditionally underserved racial and ethnic populations. Each Center must contribute to this outcome by developing strategic research and capacity-building collaborations with other entities that have demonstrated expertise in conducting high quality disability and rehabilitation research.

Applicants must identify the specific population or populations they propose to study, and provide support that the selected population or populations are, in fact, racial or ethnic minority populations that have not traditionally received equal access to and benefits of rehabilitation services.

Applicants must focus their research activities on topics that fall under at least one of the following major life domains, which are identified in NIDRR's Final Long-Range Plan for FY 2005-2009:

(1) Employment. Topics of interest under this domain include but are not limited to the following: (a) The unique experiences and factors that influence outcomes for individuals with disabilities from traditionally underserved racial and ethnic populations who are served by the State vocational rehabilitation (VR) services program; and (b) VR services and approaches that improve the employment outcomes of individuals with disabilities from racial and ethnic minority populations.

(2) Participation and Community Living. Topics of interest under this domain include but are not limited to the following: (a) The unique experiences and factors that affect community participation and community living outcomes of individuals with disabilities from racial and ethnic minority populations who are served by Department-funded centers for independent living (CILs); and (b) independent living services that improve the community participation outcomes of individuals with disabilities from racial and ethnic minority populations who are served by CILs.

(3) Health and Function. Topics of interest under this domain include but are not limited to the following: (a) The unique experiences and factors that affect health and function outcomes for individuals with disabilities from racial and ethnic minority populations who receive clinical services in medical rehabilitation programs; and (b) medical rehabilitation services or approaches that improve the health, function, employment, or community participation outcomes for individuals with disabilities from racial and ethnic minority populations.

In carrying out the purposes of the priority, each Center must—

• Involve individuals with disabilities from traditionally underserved racial and ethnic populations in planning and implementing the Center's activities, and evaluating its work;

• Develop, implement, and evaluate dissemination strategies for research and technical assistance products developed by the project;

• Develop and regularly update an online information dissemination system that meets a government or industry-recognized standard for accessibility;

• Provide research-based expertise, consultation, and technical assistance to relevant service providers who are seeking to improve outcomes of individuals with disabilities from traditionally underserved populations; and

• Through consultation with the NIDRR project officer, coordinate and establish partnerships, as appropriate, with other academic institutions and organizations that are relevant to the project's proposed activities.

Rehabilitation Research and Training Centers (RRTCs)

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (72 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Demonstrate in their applications how they will address, in whole or in part, the needs of individuals with disabilities from minority backgrounds;

• Disseminate informational materials to individuals with disabilities, their representatives, providers, and other interested parties; and

• Serve as centers of national excellence in rehabilitation research for individuals with disabilities, their representatives, providers, and other interested parties.

Priority 2—Individuals With Disabilities Living in Rural Areas

The Assistant Secretary for Special Education and Rehabilitative Services announces a priority for a Rehabilitation Research and Training Center (RRTC) on Individuals With Disabilities Living in Rural Areas. This RRTC must conduct rigorous research, training, technical assistance, and dissemination activities to improve the employment, economic, and health outcomes for individuals with disabilities in rural areas of the United States (U.S.). The RRTC must identify programs, service delivery approaches, or interventions that support and lead to improved outcomes in these areas. Where possible, the RRTC must use a rigorous (i.e., experimental or quasi-experimental) design to evaluate these programs, service delivery approaches, or interventions. Under this priority, the RRTC must be designed to contribute to the following outcomes:

(a) Policies, programs, or interventions that improve employment and economic outcomes for individuals with disabilities living in rural areas. The RRTC must contribute to this outcome by identifying evidence-based interventions, including exemplary vocational rehabilitation strategies, or developing and testing new interventions to improve employment and economic outcomes for these individuals.

(b) Rehabilitation or community-based programs or interventions that enhance access to health services and improve the health and function of individuals with disabilities living in rural areas of the U.S. The RRTC must contribute to this outcome by identifying, developing or modifying, and evaluating new programs or interventions to determine their effectiveness in enhancing access to health services and improving the health and function of individuals with disabilities living in rural areas of the U.S.

(c) Enhancement of the knowledge base of rehabilitation and health providers who deliver services to individuals with disabilities living in rural areas of the U.S. The RRTC must contribute to this outcome by developing, evaluating, and implementing research-based training and technical assistance programs and initiatives that are based upon findings from research activities described in paragraphs (a) and (b) of this priority.

Executive Order 12866

This NFP has been reviewed in accordance with Executive Order 12866. Under the terms of the order, we have assessed the potential costs and benefits of this regulatory action.

The potential costs associated with this NFP are those resulting from statutory requirements and those we have determined as necessary for administering this program effectively and efficiently.

In assessing the potential costs and benefits—both quantitative and qualitative—of this NFP, we have determined that the benefits of the final priorities justify the costs.

Summary of Potential Costs and Benefits

The benefits of the Disability and Rehabilitation Research Projects and Centers Program have been well established over the years in that similar projects have been completed successfully. These final priorities will generate new knowledge and technologies through research, development, dissemination, utilization, and technical assistance projects.

Another benefit of these final priorities is that the establishment of a new DRRP and a new RRTC will support the President's NFI and will improve the lives of individuals with disabilities. The new DRRP and RRTC will generate, disseminate, and promote the use of new information that will improve the options for individuals with disabilities to perform regular activities in the community.

Applicable Program Regulations: 34 CFR part 350.

Electronic Access to This Document

You may view this document, as well as all other Department of Education documents published in the Federal Register, in text or Adobe Portable Document Format (PDF) on the Internet at the following site: www.ed.gov/news/fedregister.

To use PDF you must have Adobe Acrobat Reader, which is available free at this site. If you have questions about using PDF, call the U.S. Government Printing Office (GPO), toll-free, at 1-888-293-6498; or in the Washington, DC, area at (202) 512-1530.

Note: The official version of this document is the document published in the Federal Register. Free Internet access to the official edition of the Federal Register and the Code of Federal Regulations is available on GPO Access at: www.gpoaccess.gov/nara/index.html.

Catalog of Federal Domestic Assistance Numbers 84.133A Disability Rehabilitation Research Projects and 84.133B Rehabilitation Research and Training Centers)

Program Authority: 29 U.S.C. 762(g), 764(a), and 764(b)(2).

Dated: July 1, 2008.
Tracy R. Justesen,
Assistant Secretary for Special Education and Rehabilitative Services.

[FR Doc. E8-15364 Filed 7-3-08; 8:45 am]

BILLING CODE 4000-01-P